DEPARTMENT OF DEFENSE

[Docket ID: DoD-2021-OS-0049]

Privacy Act of 1974; System of Records

AGENCY: Department of Defense (DoD).

ACTION: Notice of a new system of records.

SUMMARY: In accordance with the Privacy Act of 1974, the DoD is establishing a new Department-wide system of records titled, “Defense Reasonable Accommodation and Assistive Technology Records,” DoD 0007. This system of records covers the DoD's maintenance of records about DoD civilian personnel and other individuals requesting or receiving reasonable accommodations or personal assistance services, and wounded, ill and injured Service Members on Active Duty requesting or receiving assistive technology solutions, hereafter referred to collectively as disability accommodation(s). The data includes information concerning the type(s) of accommodation requested and provided; nature of a requestor's condition; manner in which an accommodation, personal assistance service, or assistive technology solution assists a requestor; and acquisition or modification of equipment or assistive technology solutions, to include electronic devices. Additionally, the DoD is issuing a direct final rulemaking to exempt this system of records from certain provisions of the Privacy Act, elsewhere in today's issue of the Federal Register.

DATES: This new system of records is effective upon publication; however, comments on the Routine Uses will be accepted on or before August 23, 2021. The Routine Uses are effective at the close of the comment period.

ADDRESSES: You may submit comments, identified by docket number and title, by any of the following methods:

• Federal Rulemaking Portal: https://www.regulations.gov.

Follow the instructions for submitting comments.

• Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION:

I. Background

The DoD is establishing the Defense Reasonable Accommodations and Assistive Technology Records, DoD 0007, as a DoD-wide Privacy Act system of records. A DoD-wide system of records notice (SORN) supports multiple DoD paper or electronic recordkeeping systems. DoD components maintaining the same kind of information on individuals for the same purpose maintain the system. The establishment of DoD-wide SORNs helps the DoD standardize the rules governing the collection, maintenance, use, and sharing of personal information in key areas across the enterprise. DoD-wide SORNs also reduce duplicative and overlapping SORNs published by separate DoD components. The creation of DoD-wide SORNs is expected to make locating relevant SORNs easier for DoD personnel and the public and create efficiencies in the operation of the DoD privacy program.

This SORN describes reasonable accommodation and assistive technology records maintained by all component parts of the DoD, wherever they are maintained. The system covers both electronic and paper records and will be used by DoD components and offices to maintain records about accommodations based on disability requested by or provided to employees and applicants for employment and participants in DoD programs and activities. The Rehabilitation Act of 1973, as amended, generally requires Federal agencies to provide accommodations which enable individuals with disabilities to perform DoD employment and participate in DoD programs and activities, unless such accommodation would impose an undue burden. In addition, DoD's Computer/Electronic Accommodations Program (CAP) provides assistive (computer/electronic) technology solutions to individuals—including injured, wounded, or ill Service members—with hearing, vision, dexterity, cognitive, and/or communications impairments in the form of an accessible work environment. This also includes the request and delivery of personal assistance services for covered individuals. Such disability accommodations include: (1) Making existing facilities readily accessible to and usable by individuals with disabilities; (2) job restructuring, modification of work schedules or place of work, extended leave, telecommuting, or reassignment to a vacant position; and/or (3) acquisition or modification of equipment or devices, including computer software and hardware, appropriate adjustments or modifications of examinations, training materials or policies, the provision of qualified readers and/or interpreters, personal assistants, service animals, and other similar accommodations.

Additionally, the DoD is issuing a Direct Final Rulemaking to exempt this system of records from certain provisions of the Privacy Act elsewhere in today's issue of the Federal Register.

II. Privacy Act

Under the Privacy Act, a “system of records” is a group of records under the control of an agency from which information is retrieved by the name of an individual or by some identifying number, symbol, or other identifying particular assigned to the individual. In the Privacy Act, an individual is defined as a U.S. citizen or lawful permanent resident.

The DoD notices for systems of records subject to the Privacy Act of 1974, as amended, have been published in the Federal Register and are available from the address in FOR FURTHER INFORMATION CONTACT or at the Defense Privacy, Civil Liberties, and Transparency Division website at https://dpcld.defense.gov.

In accordance with 5 U.S.C. 552a(r) and Office of Management and Budget (OMB) Circular No. A-108, the DoD has provided a report of this system of records to OMB and to Congress.

Dated: July 19, 2021.
Aaron T. Siegel,
Alternate OSD Federal Register Liaison Officer, Department of Defense.

SYSTEM NAME AND NUMBER:

Defense Reasonable Accommodations and Assistive Technology Records, DoD 0007.

SECURITY CLASSIFICATION:

Unclassified and Classified.

SYSTEM LOCATION:

Department of Defense (Department or DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGERS:

The system managers are as follows:

A. Deputy Director, Computer/Electronic Accommodations Program, 4800 Mark Center Drive, Suite 05E22, Alexandria, VA 22350-3100, cap@mail.mil.

B. Deputy Assistant Secretary of the Army, Command & Leadership Policy and Programs Division, Equity and Inclusion Agency, 1000 Defense, Pentagon, Washington DC 20301-1100.

C. Disability Program Manager, Department of the Air Force, 1000 Defense, Pentagon, Washington DC 20301-1100, usaf.pentagon.af-a1.mbx.a1q--workflow@mail.mil.

D. Chief of Naval Personnel, Navy Inclusion and Diversity, 701 South Courthouse Road, (Bldg. 12, Rm. 4R140), Arlington, VA 22204.

E. Marine Corps Community Services (MCCS) Human Resources Program Manager, Business and Support Services Division (MRG), Headquarters, United States Marine Corps, 3044 Catlin Avenue, Quantico, VA 22134-5003 or by phone at 703-432-0433/0431.

To contact the system manager at the Combatant Commands or other Defense Agencies with oversight of the records, visit www.FOIA.gov to locate the contact information for each component's Freedom of Information Act (FOIA) office.

AUTHORITY FOR MAINTENANCE OF THE SYSTEM:

10 U.S.C. 113, Secretary of Defense; 10 U.S.C. 136, Under Secretary of Defense for Personnel and Readiness; 10 U.S.C. 1582, Assistive Technology, Assistive Technology Devices, and Assistive Technology Services; 29 U.S.C. 791, Employment of Individuals with Disabilities; 29 U.S.C. 794d, Electronic and Information Technology; Executive Order (E.O.) 13163, Increasing the Opportunities for Individuals with Disabilities to be Employed in the Federal Government; E.O. 13164, Requiring Federal Agencies to Establish Procedures to Facilitate the Provision of Reasonable Accommodation; 29 CFR 1614.203, Rehabilitation Act; DoD Directive 1020.1, Nondiscrimination on the Basis of Handicap in Programs and Activities Assisted or Conducted by the Department of Defense; and DoD Instruction 6025.22, Assistive Technology (AT) for Wounded, Ill, and Injured Service Members.

PURPOSE(S) OF THE SYSTEM:

To support the receipt, review, and evaluation of requests made to DoD for reasonable accommodation(s) (regardless of type of accommodation), personal assistance services, or assistive technology solutions (collectively referred to below as disability accommodation(s)), the outcome of such requests, and the implementation of approved accommodations and personal assistance services. To track performance in regard to the provision of disability accommodations by the Department and/or components.

CATEGORIES OF INDIVIDUALS COVERED BY THE SYSTEM:

Individuals requesting disability accommodations sponsored or administered by the DoD, which includes DoD civilian employees (including non-appropriated fund employees and the DoD personnel employed or assigned outside of the contiguous United States hires, also known as local national employees); wounded, ill and injured Service Members on Active Duty who can be accommodated with assistive technology solutions; individuals participating in the DoD Computer/Electronic Accommodations Program (CAP) (including employees of CAP-partnering organizations and Federal entities); and other individuals affiliated with the DoD.

CATEGORIES OF RECORDS IN THE SYSTEM:

Records in this system include information regarding individuals requesting disability accommodations. Records include:

A. Personal and work related information, such as name, DoD ID number, status (applicant or current employee), address(es), phone, email, official duty telephone number, occupational series, grade level, worker compensation claims number, date request was initiated, supervisor's name and phone number.

B. Reason the accommodation is requested, including supporting documentation and related materials that substantiate the request for accommodation, type(s) of accommodation requested, type(s) of accommodation provided, whether medical or other appropriate supporting documentation was required to process the request, how the requested accommodation would assist in job performance, and the sources of technical assistance consulted in trying to identify possible accommodation, documents detailing the final decision for the requested accommodation, appeals, claims, and complaints.

C. Specific information regarding the condition which serves as the basis for the request, including but not limited to the characteristics of impairment, job function difficulties, current limitation(s), past accommodation(s), specific accommodation(s), permanent or temporary nature of condition(s), major life activities impacted by the condition, and duration of condition.

D. Documentation, including medical documentation, substantiating the need for the accommodation.

E. Information about assistive devices and technology evaluated or selected; prior assistive solutions provided to the individual; vendor information; and acquisition or modification data.

F. Records associated with personal assistance services provided to individuals with targeted disabilities assistance.

RECORD SOURCE CATEGORIES:

Records and information stored in this system of records are obtained from individuals requesting disability accommodations, rehabilitation counselors, healthcare providers, and DoD personnel who participate in the receipt, evaluation, review, decision and implementation of reasonable accommodation requests, such as hiring officials, human resource officials, supervisors and managers, reasonable accommodation officials, attorneys, and deciding officials.

ROUTINE USES OF RECORDS MAINTAINED IN THE SYSTEM, INCLUDING CATEGORIES OF USERS AND PURPOSES OF SUCH USES:

Note: Medical information collected in support of the reasonable accommodation process is subject to confidentiality requirements. Agencies may share medical information within the DoD only on an as-needed basis for purposes of resolving and implementing requests for reasonable accommodations and assistive technology solutions. In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

J. To an authorized appeal grievance examiner, formal complaints examiner, administrative judge, equal employment opportunity investigator, arbitrator or other duly authorized official engaged in investigation or settlement of a grievance, complaint, or appeal filed by an employee.

K. Disclosure of medical condition or history information to authorized government officials for the purpose of conducting an investigation into DoD's compliance with the Rehabilitation Act.

L. Disclosure of medical condition or history information to first aid and safety personnel in the event an employee's medical condition might require emergency treatment or special procedures.

M. To Federal agencies/entities participating in the DoD CAP to permit the agency to carry out its responsibilities under the program.

N. To commercial vendors to permit the vendor to identify and provide assistive technology solutions for individuals with disabilities.

O. To any agency, organization or person for the purposes of performing audit or oversight operations related to the operation of this system of records as authorized by law, but only information necessary and relevant to such audit or oversight function.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by requester name, DoD ID number, office/workstation address, bureau/office, assigned case tracking number, and disability accommodation request date.

POLICIES AND PRACTICES FOR RETENTION AND DISPOSAL OF RECORDS:

General Records Schedule 2.3 provides that reasonable accommodation case files are retained for at least three years after employee separation from the agency or all appeals are concluded, whichever is later. If an individual files a claim of disability-related discrimination or an action is brought by the Equal Employment Opportunity Commission, all personnel records related to the claim will be retained until final disposition.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD has established security audit and accountability policies and procedures which support the safeguarding of PII and detection of potential PII incidents. The DoD routinely employs safeguards such as the following to information systems and paper recordkeeping systems: Multifactor log-in authentication including Common Access Card (CAC) authentication and password; Secret internet Protocol Router (SIPR) token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

Custodians of medical records in this system of records must have the ability to protect this information from being accessed or accessible by others without a need to know. This may involve providing custodians with access to dedicated machines for copying, printing, or faxing; dedicated, secure file storage; and temporary or permanent workspaces where telephone conversations cannot be overheard by those without a need to know.

RECORD ACCESS PROCEDURES:

Individuals seeking access to their records should follow the procedures in 32 CFR part 310. Individuals should address written inquiries to the DoD office with oversight of the records. The public may identify the contact information for the appropriate DoD office through the following website: www.FOIA.gov. Signed written requests should contain the name and number of this system of records notice along with the full name, current address, and email mail address. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

Individuals seeking to amend or correct the content of records about them should follow the procedures in 32 CFR part 310.

NOTIFICATION PROCEDURES:

Individuals seeking to determine whether information about themselves is contained in this system of records should follow the instructions for Record Access Procedures above.

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

The DoD has exempted records maintained in this system from 5 U.S.C. 552a(c)(3); (d)(1), (2), (3), and (4); (e)(4)(G), (H), and (I); and (f) pursuant to 5 U.S.C. 552a(k)(1). In addition, when exempt records received from other systems of records become part of this system, the DoD also claims the same exemptions for those records that are claimed for the prior system(s) of records of which they were a part, and claims any additional exemptions set forth here. An exemption rule for this system has been promulgated in accordance with requirements of 5 U.S.C. 553(b)(1), (2), and (3), (c), and (e), and published in 32 CFR part 310.

HISTORY:

None.

[FR Doc. 2021-15601 Filed 7-21-21; 8:45 am]

BILLING CODE 5001-06-P